DEPARTMENT OF THE INTERIOR

National Park Service

Notice of Acceptance of Concurrent Legislative Jurisdiction in Kansas

AGENCY: National Park Service, Department of the Interior.

ACTION: Notice of Acceptance of Concurrent Legislative Jurisdiction in Kansas.

SUMMARY: Notice is hereby given of jurisdictional changes over areas administered by the National Park Service in the State of Kansas. The State of Kansas has ceded concurrent legislative jurisdiction over lands and waters owned, leased or administratively controlled by the National Park Service at the following units in the State of Kansas:

Fort Larned National Historic Site;

Fort Scott National Historic Site;

Brown v. Board of Education National Historic Site;

Nicodemus National Historic Site;

Tallgrass Prairie National Preserve.

This action will allow for more efficient conduct of both State and Federal functions and will comply with the congressional mandate that insofar as practicable the United States shall exercise concurrent legislative jurisdiction within units of the National Park System.

DATES: Concurrent legislative jurisdiction was ceded to the United States, upon acceptance by the Federal Government, by the Legislature of Kansas, Senate Bill No. 356 which was signed into law on March 23, 2007, and became effective on July 1, 2007, and is codified as Kansas Statute 27-120. National Park Service Director Mary A. Bomar accepted cession of concurrent legislative jurisdiction from the State of Kansas on January 16, 2008. The Honorable Kathleen Sebelius, Governor of Kansas, acknowledged the acceptance of concurrent legislative jurisdiction by the National Park Service on January 23, 2008.

FOR FURTHER INFORMATION CONTACT: General Information: James Loach, Associate Regional Director, Park Operations and Education, Midwest Region, National Park Service, Omaha, Nebraska 68102. Telephone 402-661-1702.

Technical Information: Jackie Henman, Regional Law Enforcement Specialist, Midwest Region, National Park Service, Omaha, Nebraska 68102. Telephone 402-661-1884.

SUPPLEMENTARY INFORMATION: The acquisition of concurrent legislative jurisdiction by the United States will assist in the enforcement of state criminal laws by the United States under 18 U.S.C. 13, the Assimilative Crimes Act. The acceptance of cession of jurisdiction by the Director of the National Park Service, U.S. Department of the Interior, was pursuant to authority conferred by 40 U.S.C. 3112(b) and Public Law 107-217, 116 Stat. 1144.

Dated: March 31, 2010.
Ernest Quintana,
Regional Director, Midwest Region.

[FR Doc. 2010-14836 Filed 6-18-10; 8:45 am]

BILLING CODE 4312-BF-P